DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Conducting Measurement Activities in Support of the AHRQ Health IT Initiative.” In accordance with the Paperwork Reduction Act of 1995, 44 U.S.C. 3506(c)(2)(A), AHRQ invites the public to comment on this proposed information collection.

This proposed information collection was previously published in the Federal Register on September 19th, 2008 and allowed 60 days for public comment. No comments were received. The purpose of this notice is to allow an additional 30 days for public comment.

DATES: Comments on this notice must be received by December 10, 2008.

ADDRESSES: Written comments should be submitted to: AHRQ's OMB Desk Officer by fax at (202) 395-6974 (attention: AHRQV's desk officer) or by e-mail at OIRA_submissionomb.eop.gov (attention: AHRQ's desk officer).

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@ahrg.hhs.gov.

SUPPLEMENTARY INFORMATION:

Proposed Project

Conducting Measurement Activities in Support of the AHRQ Health IT Initiative

AHRQ-supported research has helped to demonstrate the potential of health IT to enhance health care quality and patient safety. As the lead federal research agency on the quality, safety, efficiency, and effectiveness of health care in America, AHRQ plays a central role in efforts to increase the adoption of health IT.

Consistent with its mission, AHRQ proposes to develop measures of four indicators of performance of its health IT portfolio, namely:

1. Reduction in medication errors due to adoption of electronic prescribing systems;

2. The number of persons who can access their medication information online;

3. The number of clinicians who can electronically access evidence-based prevention or treatment information; and

4. The number of clinician organizations who have adopted evidence-based decision support technologies.

While secondary data are available to calculate measures 1, 3 and 4 described above, no national data exist for measure #2. Thus, this proposed information collection relates to measure #2: The number of persons who can access their medication information online.

This project is being conducted pursuant to AHRQ's statutory mandates to conduct and support research, evaluations and initiatives to advance information systems for health care improvement (42 U.S.C. 299b-3) and to promote innovations in evidence-based health care practices and technologies by conducting and supporting research on the development, diffusion, and use of health care technology (42 U.S.C. 299b-5(a)(1)).

Method of Collection

The data will be collected using a random-digit-dial (RDD) telephone survey of the U.S. adult population. To ensure a representative geographic distribution of the sample, the total sample will be allocated to each Census region in proportion to the total number of adults in each region. The survey will be administered in both English and Spanish.

Estimated Annual Respondent Burden

Exhibit 1 presents the estimated annualized burden hours for the respondents' time to participate in this project. The telephone survey will be completed by 1,000 respondents and is expected to require 12 minutes to complete. The cognitive pretest interviews, which are used to refine and validate the survey instrument, will be completed by 18 respondents (9 English-speaking and 9 Spanish-speaking) and are expected to last one hour. The total burden hours are estimated to be 218 hours.

Exhibit 2 shows the estimated annualized cost burden for the respondents' time to participate in this project. The total cost burden is estimated to be $4,205.

Exhibit 1—Estimated Annualized Burden Hours
Data collection | Number of responses | Number of responses per respondent | Hours per response | Total burden hours
Telephone Survey | 1000 | 1 | 12/60 | 200
Cognitive Pretest Interview | 18 | 1 | 1 | 18
Total | 1018 | na | na | 218

Exhibit 2—Estimated Annualized Cost Burden
Data collection | Number of respondents | Total burden hours | Average hourly wage rate* | Total cost burden
Telephone Survey | 1000 | 200 | $19.29 | $3,858
Cognitive Pretest Interview | 18 | 18 | 19.29 | 347
Total | 1018 | 218 | na | 4,205
* Based upon the mean of the average wages, National Compensation Survey: Occupational wages in the United States 2006, “U.S. Department of Labor, Bureau of Labor Statistics.”

Estimated Annual Costs to the Federal Government

We are requesting approval for a one-time, one year, data collection effort. The estimated cost of this data collection is $310,067, which includes the cost of developing, administering and analyzing the survey. Exhibit 3 details labor hours, operational expenses (such as equipment, overhead, printing, and support staff), and any other expenses that would not have been incurred without this collection of information.

Exhibit 3—Annual Costs for the Estimate of the Number of Persons Who Can Access Their Medication Information Online
| Annual
Labor: 1,514 hours plus 42% fringe | 123,998
Data collection: Interviewer training, sample purchase, survey administration, data entry, toll calls | 30,274
Other direct costs: Computer charge, telephone/fax/teleconference, printing and duplication, travel | 28,418
Indirect costs: Regular overhead, 46.5%; G&A, 21% | 101,775
Confract Fee | 25,602
Total | 310,067

Request for Comments

In accordance with the above-cited Paperwork Reduction Act legislation, comments on AHRQ's information collection are requested with regard to any of the following: (a) Whether the proposed collection of information is necessary for the proper performance of AHRQ health care research, quality improvement and information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: November 12, 2008.
Carolyn M. Clancy,
Director.

[FR Doc. E8-27522 Filed 11-20-08; 8:45 am]

BILLING CODE 4160-90-M